DEPARTMENT OF ENERGY

Federal Energy Regulatory Commission

Combined Notice of Filings #2

July 2, 2010.

Take notice that the Commission received the following electric rate filings:

Docket Numbers: ER10-1649-000.

Applicants: Midwest Independent Transmission System Operator, Inc.

Description: Midwest Independent Transmission System Operator, Inc submits proposed revisions to the Coordination Agreement with Independent Electricity System Operator.

Filed Date: 06/30/2010.

Accession Number: 20100630-0234.

Comment Date: 5 p.m. Eastern Time on Wednesday, July 21, 2010.

Docket Numbers: ER10-1650-000.

Applicants: New England Power Pool Participants Committee.

Description: The New England Power Pool Participants Committee submits transmittal letter along with counterpart signature pages of the Agreement dated 9/1/71 etc.

Filed Date: 06/30/2010.

Accession Number: 20100630-0233.

Comment Date: 5 p.m. Eastern Time on Wednesday, July 21, 2010.

Docket Numbers: ER10-1653-000.

Applicants: ISO New England and NEPOOL.

Description: ISO New England Inc et al submits transmittal letter and Fourth Revised Sheet 7319B et al to FERC Electric Tariff 3- Section III- Market Rule 1- Standard Market Design etc.

Filed Date: 06/30/2010.

Accession Number: 20100630-0221.

Comment Date: 5 p.m. Eastern Time on Wednesday, July 21, 2010.

Docket Numbers: ER10-1654-000.

Applicants: Connecticut Light & Power Company.

Description: The Connecticut Light and Power Company submits Interconnection Agreement with Covanta Projects of Wallingford, LP etc.

Filed Date: 06/30/2010.

Accession Number: 20100630-0219.

Comment Date: 5 p.m. Eastern Time on Wednesday, July 21, 2010.

Docket Numbers: ER10-1655-000.

Applicants: MATEP, Inc.

Description: MATEP Limited Partnership submits Notice of Succession to New MATEP, Inc's market- based rate tariff.

Filed Date: 06/30/2010.

Accession Number: 20100630-0220.

Comment Date: 5 p.m. Eastern Time on Wednesday, July 21, 2010.

Docket Numbers: ER10-1659-000.

Applicants: PSEG Nuclear LLC.

Description: PSEG Nuclear LLC submits tariff filing per 35.12: Baseline Filing of Market-Based Rates Tariff Under Order No. 714 to be effective 7/1/2010.

Filed Date: 07/01/2010.

Accession Number: 20100701-5008.

Comment Date: 5 p.m. Eastern Time on Thursday, July 22, 2010.

Docket Numbers: ER10-1660-000.

Applicants: PSEG Fossil LLC.

Description: PSEG Fossil LLC submits tariff filing per 35.12: Baseline Filing of Market-Based Rate Tariff Under Order No. 714 to be effective 7/1/2010.

Filed Date: 07/01/2010.

Accession Number: 20100701-5011.

Comment Date: 5 p.m. Eastern Time on Thursday, July 22, 2010.

Docket Numbers: ER10-1661-000.

Applicants: PSEG Power Connecticut LLC.

Description: PSEG Power Connecticut LLC submits tariff filing per 35.12: Baseline Filing of Market-Based Rate Tariff under Order No. 714 to be effective 7/1/2010.

Filed Date: 07/01/2010.

Accession Number: 20100701-5012.

Comment Date: 5 p.m. Eastern Time on Thursday, July 22, 2010.

Docket Numbers: ER10-1662-000.

Applicants: PSEG Energy Resources & Trade LLC.

Description: PSEG Energy Resources & Trade LLC submits tariff filing per 35.12: Baseline Filing of Market-Based Rate Tariff under Order No. 714 to be effective 7/1/2010.

Filed Date: 07/01/2010.

Accession Number: 20100701-5013.

Comment Date: 5 p.m. Eastern Time on Thursday, July 22, 2010.

Docket Numbers: ER10-1663-000.

Applicants: PSEG Energy Resources & Trade LLC.

Description: PSEG Energy Resources & Trade LLC submits tariff filing per 35.12: Baseline Filing of Reactive Power Tariff Under No. 714 to be effective 7/1/2010.

Filed Date: 07/01/2010.

Accession Number: 20100701-5015.

Comment Date: 5 p.m. Eastern Time on Thursday, July 22, 2010.

Docket Numbers: ER10-1664-000.

Applicants: Southwest Power Pool, Inc.

Description: Southwest Power Pool, Inc. submits an executed Service Agreement for Network Integration Transmission Service.

Filed Date: 06/30/2010.

Accession Number: 20100701-0201.

Comment Date: 5 p.m. Eastern Time on Wednesday, July 21, 2010.

Docket Numbers: ER10-1665-000.

Applicants: Xcel Energy Services Inc.

Description: Public Service Company of Colorado submits an informational filing re the Letter of Agreement.

Filed Date: 06/30/2010.

Accession Number: 20100701-0202.

Comment Date: 5 p.m. Eastern Time on Wednesday, July 21, 2010.

Docket Numbers: ER10-1666-000.

Applicants: Midwest Independent Transmission System Operator, Inc.

Description: Midwest Independent Transmission System Operator, Inc. submits proposed revisions to its Open Access Transmission, Energy and Operating Reserve Markets Tariff to be effective 9/1/10.

Filed Date: 06/30/2010.

Accession Number: 20100701-0204.

Comment Date: 5 p.m. Eastern Time on Wednesday, July 21, 2010.

Docket Numbers: ER10-1667-000.

Applicants: Southwest Power Pool, Inc.

Description: Southwest Power Pool, Inc. submits two executed service agreements for Firm Point-to-Point Transmission Service with Kansas City Power & Light Company etc.

Filed Date: 06/30/2010.

Accession Number: 20100701-0203.

Comment Date: 5 p.m. Eastern Time on Wednesday, July 21, 2010.

Docket Numbers: ER10-1668-000.

Applicants: Midwest Independent Transmission System Operator, Inc.

Description: Midwest Independent Transmission System Operator, Inc submits proposed revisions to its Open Access Transmission, Energy and Operating Reserve Market Tariff etc.

Filed Date: 06/30/2010.

Accession Number: 20100701-0239.

Comment Date: 5 p.m. Eastern Time on Wednesday, July 21, 2010.

Docket Numbers: ER10-1669-000.

Applicants: Cleco Power LLC.

Description: Cleco Power LLC submits a Service Agreement for Network Integration Transmission Service with Entergy Gulf States Louisiana LL etc.

Filed Date: 06/30/2010.

Accession Number: 20100701-0205.

Comment Date: 5 p.m. Eastern Time on Wednesday, July 21, 2010.

Docket Numbers: ER10-1670-000.

Applicants: North Western Energy.

Description: North Western Corporation submits Clean and Redlined Version of Third Revised Sheet 25 et al to their Rate Schedule FERC 188 etc.

Filed Date: 06/30/2010.

Accession Number: 20100701-0206.

Comment Date: 5 p.m. Eastern Time on Wednesday, July 21, 2010.

Docket Numbers: ER10-1671-000.

Applicants: RRI Energy Services, Inc.

Description: RRI Energy Services, Inc. submits tariff filing per 35.12: Baseline Filing to be effective 8/1/2010.

Filed Date: 07/01/2010.

Accession Number: 20100701-5045.

Comment Date: 5 p.m. Eastern Time on Thursday, July 22, 2010.

Docket Numbers: ER10-1672-000.

Applicants: Old Dominion Electric Cooperative.

Description: Old Dominion Electric Cooperative submits an executed Mutual Operating Agreement, designated as Original Service Agreement 2542.

Filed Date: 07/01/2010.

Accession Number: 20100701-0248.

Comment Date: 5 p.m. Eastern Time on Thursday, July 22, 2010.

Docket Numbers: ER10-1673-000.

Applicants: Synergics Roth Rock North Wind Energy, LLC.

Description: Synergics Roth Rock North Wind Energy, LLC submits an application for authorization to sell energy and capacity in wholesale transactions at negotiated, market-based rates.

Filed Date: 07/01/2010.

Accession Number: 20100701-0249.

Comment Date: 5 p.m. Eastern Time on Thursday, July 22, 2010.

Docket Numbers: ER10-1675-000.

Applicants: Wisconsin Electric Power Company.

Description: Wisconsin Electric Power Company submits Notice of Termination of FERC Electric Tariff, Original Volume 9, Service Agreement 1.

Filed Date: 07/01/2010.

Accession Number: 20100701-0275.

Comment Date: 5 p.m. Eastern Time on Thursday, July 22, 2010.

Docket Numbers: ER10-1676-000.

Applicants: Entergy Services, Inc.

Description: Entergy submits amendments to Service Schedule MSS-3 and Service Schedule MSS-4 of Entergy System Agreement.

Filed Date: 06/30/2010.

Accession Number: 20100701-0253.

Comment Date: 5 p.m. Eastern Time on Wednesday, July 21, 2010.

Docket Numbers: ER10-1677-000.

Applicants: Midwest Independent Transmission System Operator, Inc.

Description: Midwest Independent Transmission System Operator, Inc. submits proposed amendments to its Open Access Transmission, Energy and Operating Reserve Markets Tariff.

Filed Date: 07/01/2010.

Accession Number: 20100701-0225.

Comment Date: 5 p.m. Eastern Time on Thursday, July 22, 2010.

Docket Numbers: ER10-1678-000.

Applicants: Berkshire Power Company, LLC.

Description: Berkshire Power Company, LLC submits Notice of Cancellation of its Rate Schedule FERC No 2.

Filed Date: 07/01/2010.

Accession Number: 20100701-0224.

Comment Date: 5 p.m. Eastern Time on Thursday, July 22, 2010.

Docket Numbers: ER10-1679-000.

Applicants: Allegheny Power.

Description: Allegheny Power et al. submits revised Interconnection Agreement dated as of 8/26/09 designated as First Revised Service Agreement 2149 to FERC Electric Tariff, 6R1.

Filed Date: 07/01/2010.

Accession Number: 20100701-0223.

Comment Date: 5 p.m. Eastern Time on Thursday, July 22, 2010.

Docket Numbers: ER10-1680-000.

Applicants: Ally Energy, LLC.

Description: Ally Energy, LLC submits Application for Market-Based Rate Authorization, Designation of Category 1 Status, and Request for Waivers and Blanket Approvals.

Filed Date: 07/01/2010.

Accession Number: 20100701-0222.

Comment Date: 5 p.m. Eastern Time on Thursday, July 22, 2010.

Docket Numbers: ER10-1681-000.

Applicants: Allegheny Energy Service Corporation.

Description: Allegheny Energy Service Corporation submits revised Borderline Interchange Agreement with Virginia Electric and Power Company etc.

Filed Date: 07/01/2010.

Accession Number: 20100701-0221.

Comment Date: 5 p.m. Eastern Time on Thursday, July 22, 2010.

Docket Numbers: ER10-1682-000.

Applicants: Virginia Electric and Power Company.

Description: Dominion Virginia Power submits revised and executed Mutual Operating Agreement with Old Dominion Electric Cooperative.

Filed Date: 07/01/2010.

Accession Number: 20100701-0220.

Comment Date: 5 p.m. Eastern Time on Thursday, July 22, 2010.

Docket Numbers: ER10-1683-000.

Applicants: Virginia Electric and Power Company.

Description: Virginia Electric and Power Company submits tariff filing per 35.13(a)(2)(iii): VEPCO—Third Revised Rate Schedule FERC No. 122 to be effective 6/30/2010.

Filed Date: 07/01/2010.

Accession Number: 20100701-5102.

Comment Date: 5 p.m. Eastern Time on Thursday, July 22, 2010.

Docket Numbers: ER10-1684-000.

Applicants: Southwest Power Pool, Inc.

Description: Southwest Power Pool, Inc. submits an executed Service Agreement for Network Integration Transmission Service with Kansas City Power etc.

Filed Date: 07/01/2010.

Accession Number: 20100701-0229.

Comment Date: 5 p.m. Eastern Time on Thursday, July 22, 2010.

Docket Numbers: ER10-1685-000.

Applicants: Southwest Power Pool, Inc.

Description: Southwest Power Pool, Inc. submits an executed Service Agreement for Network Integration Transmission Service with Grand River Dam Authority etc.

Filed Date: 07/01/2010.

Accession Number: 20100701-0228.

Comment Date: 5 p.m. Eastern Time on Thursday, July 22, 2010.

Docket Numbers: ER10-1686-000.

Applicants: Southwest Power Pool, Inc.

Description: Southwest Power Pool, Inc. submits an executed Service Agreement for Network Integration Transmission Service.

Filed Date: 07/01/2010.

Accession Number: 20100701-0230.

Comment Date: 5 p.m. Eastern Time on Thursday, July 22, 2010.

Docket Numbers: ER10-1687-000.

Applicants: Southwest Power Pool, Inc.

Description: Southwest Power Pool, Inc. submits notice of cancellation of the Meter Agent Services Agreement with Kansas Power Pool etc.

Filed Date: 07/01/2010.

Accession Number: 20100701-0227.

Comment Date: 5 p.m. Eastern Time on Thursday, July 22, 2010.

Docket Numbers: ER10-1688-000.

Applicants: Southwest Power Pool, Inc.

Description: Southwest Power Pool, Inc. submits First Revised Service Agreement 1822, First Revised Volume No. 1.

Filed Date: 07/01/2010.

Accession Number: 20100701-0265.

Comment Date: 5 p.m. Eastern Time on Thursday, July 22, 2010.

Docket Numbers: ER10-1689-000.

Applicants: Southwest Power Pool, Inc.

Description: Southwest Power Pool, Inc. submits Tenth Revised Service Agreement 1166, Fifth Revised Volume 1.

Filed Date: 07/01/2010.

Accession Number: 20100701-0264.

Comment Date: 5 p.m. Eastern Time on Thursday, July 22, 2010.

Docket Numbers: ER10-1690-000.

Applicants: ISO New England Inc.

Description: ISO New England submits FERC Electric Tariff No. 3, 2nd Revised Sheet 7303.

Filed Date: 07/01/2010.

Accession Number: 20100701-0263.

Comment Date: 5 p.m. Eastern Time on Thursday, July 22, 2010.

Docket Numbers: ER10-1691-000.

Applicants: Southwest Power Pool, Inc.

Description: Southwest Power Pool, Inc. submits First Revised Service Agreement 1534, Fifth Revised Volume No. 1.

Filed Date: 07/01/2010.

Accession Number: 20100701-0262.

Comment Date: 5 p.m. Eastern Time on Thursday, July 22, 2010.

Take notice that the Commission received the following public utility holding company filings:

Docket Numbers: PH10-7-001.

Applicants: BlackRock, Inc.

Description: Notification of Material Change in Facts of BlackRock, Inc.

Filed Date: 06/28/2010.

Accession Number: 20100628-5221.

Comment Date: 5 p.m. Eastern Time on Monday, July 19, 2010.

Take notice that the Commission received the following electric reliability filings:

Docket Numbers: RR06-1-024; RR07-8-004; RR07-8-005.

Applicants: North American Electric Reliability Corporation.

Description: North American Electric Reliability Corporation, on behalf of itself and FRCC, submits a compliance filing in response to Paragraphs 127 and 128 of the December 19, 2008 Order.

Filed Date: 06/30/2010.

Accession Number: 20100630-5113.

Comment Date: 5 p.m. Eastern Time on Wednesday, July 21, 2010.

Docket Numbers: RR07-3-004; RR07-3-005; RR06-1-025.

Applicants: North American Electric Reliability Corporation.

Description: North American Electric Reliability Corporation, on behalf of itself and NPCC, submits a compliance filing in response to Paragraph 94 of the December 19, 2008 Order.

Filed Date: 06/30/2010.

Accession Number: 20100630-5111.

Comment Date: 5 p.m. Eastern Time on Wednesday, July 21, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Nathaniel J. Davis, Sr.,
Deputy Secretary.

[FR Doc. 2010-17148 Filed 7-13-10; 8:45 am]

BILLING CODE 6717-01-P